NATIONAL TRANSPORTATION SAFETY BOARD

Sunshine Act Meeting

TIME AND DATE: 9:30 a.m., Tuesday, December 7, 2010.

PLACE: NTSB Conference Center, 429 L'Enfant Plaza, SW., Washington, DC 20594.

STATUS: The ONE item is open to the public.

Matter To Be Considered

8066A Aircraft Accident Report—Crash During Takeoff of Firefighting Helicopter, U.S. Forest Service, Sikorsky S-61N, N612AZ, Weaverville, California, August 5, 2008.

NEWS MEDIA CONTACT: Telephone: (202) 314-6100.

The press and public may enter the NTSB Conference Center one hour prior to the meeting for set-up and seating.

Individuals requesting specific accommodations should contact Rochelle Hall at (202) 314-6305 by Friday, December 3, 2010.

The public may view the meeting via a live or archived webcast by accessing a link under “News & Events” on the NTSB home page at http://www.ntsb.gov.

FOR MORE INFORMATION CONTACT: Candi Bing, (202) 314-6403.

Dated: Friday, November 19, 2010.
Candi R. Bing,
Federal Register Liaison Officer.

[FR Doc. 2010-29655 Filed 11-19-10; 4:15 pm]

BILLING CODE 7533-01-P